ENVIRONMENTAL PROTECTION AGENCY

40 CFR Part 152

[EPA-HQ-OPP-2019-0701; FRL-7542-03-OCSPP]

RIN 2070-AK56

Pesticides; Proposal To Add Chitosan to the List of Active Ingredients Permitted in Exempted Minimum Risk Pesticide Products; Notice of Data Availability on Chitosan and Chitosan Salts

AGENCY: Environmental Protection Agency (EPA).

ACTION: Notification of data availability.

SUMMARY: The Environmental Protection Agency (EPA) is announcing the availability of and soliciting comment on data related to the aquatic toxicity of chitosan salts. The EPA seeks public comment on these data.

DATES: Comments must be received on or before June 6, 2022.

ADDRESSES: Submit your comments, identified by docket identification (ID) number EPA-HQ-OPP-2006-0766, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

Due to the public health concerns related to COVID-19. The EPA Docket Center (EPA/DC) and Reading Room is open to visitors by appointment only. The staff continues to provide remote customer service via email, phone, and webform. For the latest status information on EPA/DC services and docket access, visit https://www.epa.gov/dockets.

FOR FURTHER INFORMATION CONTACT: Charles Smith, Director, Biopesticides and Pollution Prevention Division (7511P), Office of Pesticide Programs, Environmental Protection Agency, 1200 Pennsylvania Ave. NW, Washington, DC 20460-0001; main telephone number: (703) 305-7090; email address: BPPDFRNotices@epa.gov.

SUPPLEMENTARY INFORMATION:

I. General Information

The EPA is making two aquatic toxicity reports, submitted by Tidal Vision Products, LLC, available for public comment. The EPA seeks input from stakeholders on how these reports may be used to inform the Agency's assessment of the aquatic toxicity of chitosan and its salts.

On November 2, 2020, the EPA published “Pesticides; Proposal to Add Chitosan to the List of Active Ingredients Permitted in Exempted Minimum Risk Pesticide Product,” 85 FR 69307 (FRL-10009-24). The proposed rule addressed the subject matter of a 2018 petition by Tidal Vision Products LLC that requested that the substance commonly known as chitosan (also known by its chemical name poly-D-glucosamine) (CAS Reg. No. 9012-76-4) be added to the list of active ingredients allowed in exempted minimum risk pesticide products under 40 CFR 152.25(f)(1).

Public comments on the proposed rule discussed these salts. The EPA notes that chitosan may form as a salt (e.g., acetate, lactate, hydrochloride, and salicylate) when it is solubilized in acids for end use product formulation and subsequently applied in the environment. The new information submitted by Tidal Vision pertains to these salts.

As authorized by the Federal Insecticide, Fungicide, and Rodenticide Act (FIFRA) section 25(b), the EPA has exempted from the requirement of registration certain pesticide products if they are composed of specified ingredients (recognized active and inert substances which are listed in the regulations) and labeled according to the EPA's regulations in 40 CFR 152.25(f). The EPA created the exemption for minimum risk pesticides to eliminate the need for the Agency to expend significant resources to regulate products that were deemed to be of minimum risk to human health and the environment. Prior to submission of these aquatic toxicity reports, the EPA received a petition from Tidal Vision Products, LLC, requesting that the substance commonly known as chitosan (also known by its chemical name poly-D-glucosamine) (CAS Reg. No. 9012-76-4) be added to the list of active ingredients allowed in exempted minimum risk pesticide products under 40 CFR 152.25(f)(1). This matter was the subject of a proposed regulation (85 FR 69307) (FRL-10009-24).

The EPA is considering the information submitted by Tidal Vision in its decision regarding whether to finalize the proposal to add chitosan to the list of permitted active ingredients, and if so, whether and how to address chitosan salts in the exemption.

II. References

The following is a listing of the documents that are specifically referenced in this document. For assistance in locating these other documents, please consult the person listed under FOR FURTHER INFORMATION CONTACT.

1. Tidal Vision USA. (2019). Aquatic Toxicology Report by Eurofins Environmental Testing Test America. Lab I.D. No. B4345. Report Date: June 17, 2019. EPA Master Record Identification (MRID) 51861901.

2. Tidal Vision USA. (2019). Aquatic Toxicology Report by Eurofins Environmental Testing Test America. Lab I.D. No. B4421. Report Date: August 28, 2019. EPA Master Record Identification (MRID) 51861902.

List of Subjects in 40 CFR Part 152

Environmental protection, Administrative practice and procedure, Agricultural commodities, Pesticides and pests, Reporting, and recordkeeping requirements.

Dated: April 29, 2022.
Michal Freedhoff,
Assistant Administrator, Office of Chemical Safety and Pollution Prevention.

[FR Doc. 2022-09731 Filed 5-5-22; 8:45 am]

BILLING CODE 6560-50-P